DEPARTMENT OF COMMERCE

National Oceanic and Atmospheric Administration

[I.D. 111804B]

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Magnuson-Stevens Act (MSA) Reauthorization Committee; its Ecosystem Committee; and, its Executive Committee will hold public meetings.

DATES: The meetings will be held on Tuesday, December 7, 2004 through Thursday, December 9, 2004. See SUPPLEMENTARY INFORMATION for specific dates and times.

ADDRESSES: The meetings will be at the Holiday Inn Select, Interstate 95 and Naamans Road, Claymont (North Wilmington), DE 19703; telephone 302-792-2700.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION:

Tuesday, December 7, 2004

1 p.m. to 3 p.m., the MSA Reauthorization Committee will meet.

3 p.m. to 5 p.m., the Ecosystem Committee will meet.

Wednesday, December 8, 2004

8:30-9:30 a.m.,the Executive Committee will meet.

9:30 a.m., the Council will convene.

9:30-11:45 a.m., the Council will meet jointly with the Atlantic States Marine Fishery Commission's (ASMFC) Summer Flounder, Scup, and Black Sea Bass Board (Board) to establish recreational management measures of the 2005 summer flounder fishery.

1 p.m., Council will present its 2004 Fisheries Achievement Award.

1:15 p.m. to 5:30 p.m., the Council, jointly with the ASMFC's Board, will set recreation management measures for scup and black sea bass fisheries for 2005.

Thursday, December 9, 2004

8:30 a.m., the Council will convene.

8:45 a.m. to 9:30 a.m., Council will hear a NMFS presentation regarding its Sea Turtle Strategy under the Endangered Species Act.

9:30 a.m. until adjournment, Council will approve the August and October Council meeting minutes, hear organizational reports, receive status of the Council's Fishery Management Plans, and hear the Executive Director's Report. Council will then receive Committee and Council liaison reports and address any continuing and/or new business.

Agenda items for the Council's committees and the Council itself are: on December 7, the meeting of the MSA Reauthorization Committee will review Bills proposed during the 108th Congress, discuss U.S. Commission on Ocean Policy Report and its implications on MSA, and discuss strengths and weaknesses of current law and how it could be reinforced or modified; and, the meeting of the Ecosystem Committee will review NMFS' ecosystem survey meeting outcome, and review the status of GIS (Geographic Information System) capabilities and applications for fishery management. On December 8, the meeting of the Executive Committee will discuss the implication of de-coupling Council and Commission FMPs, and possible elimination/transfer of authority to jointly manage dogfish and monkfish FMPs. The joint meeting with the ASMFC's Summer Flounder, Scup, and Black Sea Bass Board will set recreational management for the 2005 summer flounder, scup, and black sea bass recreational fisheries. For each fishery, the Council and Commission will review and discuss the Monitoring Committee's recommendations on management measures, and will also review and discuss the Advisory Panels' recommendations on management measures. Council will present its Fisheries Achievement Award to Sonja Fordham of The Ocean Conservancy. On December 9, the Council will convene at 8:30 a.m. to receive a presentation from NMFS regarding its Sea Turtle Strategy under the Endangered Species Act; approve August and October Council meeting minutes; hear organizational reports, liaison reports, internal staff reports and committee reports; and, act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Debbie Donnangelo (302-674-2331) at least 5 days prior to the meeting date.

Dated: November 18, 2004.
Tracey L. Thompson,
Acting Director, Office of Sustainable Fisheries, National Marine Fisheries Service.

[FR Doc. 04-25962 Filed 11-22-04; 8:45 am]

BILLING CODE 3510-22-S